DEPARTMENT OF TRANSPORTATION

Federal Aviation Administration

Noise Exposure Map Notice Nashville Interntional Airport, Nashville, TN

AGENCY: Federal Aviation Administration, DOT.

ACTION: Notice.

SUMMARY: The Federal Aviation Administration (FAA) announces its determination that the Noise Exposure Maps submitted by Metropolitan Nashville Airport Authority for Nashville International Airport under the provisions of 49 U.S.C. 47501 et seq. (Aviation Safety and Noise Abatement Act) and 14 CFR part 150 are in compliance with applicable requirements.

DATES: Effective Date: The effective date of the FAA's determination on the noise exposure maps is February 4, 2013.

FOR FURTHER INFORMATION CONTACT: Phillip J. Braden, Federal Aviation Administration, Memphis Airports District Office, 2862 Business Park Drive, Building G, Memphis, Tennessee 38118, 901-322-8181.

SUPPLEMENTARY INFORMATION: This notice announces that the FAA finds that the Noise Exposure Maps submitted for Nashville International Airport are in compliance with applicable requirements of Title 14 Code of Federal Regulations (CFR) Part 150, effective February 4, 2013. Under 49 U.S.C. section 47503 of the Aviation Safety and Noise Abatement Act (the Act), an airport operator may submit to the FAA Noise Exposure Maps which meet applicable regulations and which depict noncompatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing noncompatible uses and prevent the introduction of additional noncompatible uses.

The FAA has completed its review of the Noise Exposure Maps and accompanying documentation submitted by Metropolitan Nashville Airport Authority. The documentation that constitutes the “Noise Exposure Maps” as defined in Section 150.7 of 14 CFR part 150 includes: “Figure 2, Nashville International Airport Surrounding Communities p.7; Figure 3, Existing Conditions (2012) Noise Exposure Map; Forecast Condition (2017) Noise Exposure Map; Figure 5, Comparison of Existing (2012) and Forecast (2017) Noise Exposure Maps; Table 4, Runway Details p. 42; Table 5, Modeled Average Daily Aircraft Operations for 2012 p. 45; Table 6, Modeled Average Daily Aircraft Operations for 2017 p. 48; Table 7, Designated Runup Locations and Use Guidance p. 50; Table 8, Modeled Average Daily Runup Operations for 2012 p. 51; Table 9, Modeled Average Daily Runup Operations for 2017 p. 51; Table 10, Modeled Average Daily Runway Use for 2012 and 2017 p. 53; Table 11 RNAV Aircraft List p. 56; Figure 7, Existing North Flow Flight Tracks for Conventional Departures, and Conventional and RNP Arrivals; Figure 8, Existing South Flow Tracks for Conventional Departures, and Conventional and RNP Arrivals; Figure 9, RNAV/RNP North Flow Arrival and Departure Flight Tracks; Figure 10, RNAV/RNP South Flow Arrival and Departure Flight Tracks; Table 12 Modeled Track Utilization for 2012 p. 67; Table 13 Modeled Track Utilization for 2017 p. 74; Appendix A, Noise Terminology; Appendix B, FAA Acceptance of Previous Noise Exposure Maps; Appendix C, May 23, 1989 FAA Record of Approval for 1989 Noise Compatibility Program Submission; Appendix D, Original 2011 and 2016 Noise Exposure Map Forecast Document and FAA Approval; Appendix E, MNAA Submission to FAA and Associated FAA Approval for Revised 2012 and 2017 Forecasts; Appendix F, Request to FAA Regarding Non-Standard Aircraft Type Modeling Substitutions and FAA Response; Appendix G, Documentation Related to Draft Noise Exposure Map Notice, Review, and Comment Opportunities; Appendix H, Documentation Related to September 18, 2012 Public Workshop; Appendix I, Written Comment Received During Consultation”. The FAA has determined that these Noise Exposure Maps and accompanying documentation are in compliance with applicable requirements. This determination is effective on February 4, 2013.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of 14 CFR part 150, that the statutorily required consultation has been accomplished.

Copies of the full Noise Exposure Maps documentation and of the FAA's evaluation of the maps are available for examination at the following locations: Federal Aviation Administration, Memphis Airports District Office, 2862 Business Park Drive, Building G, Memphis, Tennessee 38118.

Questions may be directed to the individual named above under the heading, FOR FURTHER INFORMATION CONTACT.

Issued in Memphis, Tennessee on February 4, 2013.
Phillip J. Braden,
Manager, Memphis Airports District Office.

[FR Doc. 2013-03141 Filed 2-11-13; 8:45 am]

BILLING CODE 4910-13-P